DEPARTMENT OF DEFENSE

48 CFR Part 252

[DFARS Case 2001-D001]

Defense Federal Acquisition Regulation Supplement; Cancellation of MIL-STD-973, Configuration Management

Correction

In rule document 01-24387 beginning on page 49865, in the issue of Monday, October 1, 2001, make the following correction:

252.248-7000 [Corrected]

On page 49866, in the first column, section 252.248-7000 should read as set forth above.

[FR Doc. C1-24387 Filed 10-5-01; 8:45 am]

BILLING CODE 1505-01-D

DEPARTMENT OF DEFENSE

48 CFR Part 253

[DFARS Case 2001-0004]

Defense Federal Acquisition Regulation Supplement; Reporting Requirements Update

Correction

In the issue of Wednesday, October 3, 2001 on page 50504, in the third column, in the correction of rule document C1-22420, in the first line, “On page 47103” should read “On page 47105”.

[FR Doc. C1-22420 Filed 10-5-01; 8:45 am]

BILLING CODE 1505-01-D